DEPARTMENT OF COMMERCE

Foreign-Trade Zones Board

[B-15-2023]

Foreign-Trade Zone 122—Corpus Christi, Texas; Application for Expansion of Subzone 122X, Cheniere Energy, Inc., Portland, Texas

An application has been submitted to the Foreign-Trade Zones (FTZ) Board by the Port of Corpus Christi Authority, grantee of FTZ 122, requesting an expansion of Subzone 122X on behalf of Cheniere Energy, Inc., located in Portland, Texas. The application was submitted pursuant to the provisions of the Foreign-Trade Zones Act, as amended (19 U.S.C. 81a-81u), and the regulations of the FTZ Board (15 CFR part 400). It was formally docketed on March 1, 2023.

Subzone 122X was approved on May 11, 2020 (Board Order 2098, 85 FR 29396-29397, May 15, 2020). Production activity was authorized on February 13, 2020 (B-66-2019, 85 FR 9734, February 20, 2020). The subzone currently consists of 1,636.109 acres located at 2822 La Quinta Road in Portland (Site 1).

The applicant is requesting authority to modify the subzone as follows: (1) expand Site 1 to include an additional 66.895 acres; and, (2) remove a parcel that was inadvertently included in the requested Site 1 boundaries approved in 2020. Modified Site 1 will consist of 1,703.004 acres total. No additional authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is April 17, 2023. Rebuttal comments in response to material submitted during the foregoing period may be submitted during the subsequent 15-day period to May 1, 2023.

A copy of the application will be available for public inspection in the “Online FTZ Information Section” section of the FTZ Board's website, which is accessible via www.trade.gov/ftz.

For further information, contact Camille Evans at Camille.Evans@trade.gov.

Dated: March 1, 2023.
Elizabeth Whiteman,
Acting Executive Secretary.

[FR Doc. 2023-04566 Filed 3-6-23; 8:45 am]

BILLING CODE 3510-DS-P